NATIONAL AERONAUTICS AND SPACE ADMINISTRATION

[06-001]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 30 calendar days from the date of this publication.

ADDRESSES: All comments should be addressed to Desk Officer for NASA, Office of Information and Regulatory Affairs, Room 10236, New Executive Office Building, Washington, DC 20503.

FOR FURTHER INFORMATION CONTACT: Requests for additional information or copies of the information collection instrument(s) and instructions should be directed to Mr. Walter Kit, NASA Reports Officer, JA000, NASA Headquarters, 300 E Street, SW., Washington, DC 20546, 202-358-1350, Walter.Kit-1@nasa.gov.

SUPPLEMENTARY INFORMATION:

I. Abstract

The National Aeronautics and Space Administration (NASA) is requesting renewal of an existing collection that is used to help NASA ensure proper accounting of Federal funds provided under grants and cooperative agreements with institutions of higher education and other non-profit organizations. Reporting and recordkeeping are prescribed in 14 CFR § 1260.10, § 1260.20, § 1260.21, § 1260.22, § 1260.24, § 1260.26, § 1260.32, § 1260.33, § 1260.35, § 1260.73, § 1260.75, and § 1260.77. Furthermore, collection constitutes NASA's implementation of those parts of OMB Circular A-110 deemed applicable to Agency awards; i.e., submission of SF 272's, recordkeeping, and prudent stewardship of Government-provided funds.

II. Method of Collection

NASA uses electronic methods to collect information from collection respondents.

III. Data

Title: Financial Monitoring and Control—Grants and Cooperative Agreements.

OMB Number: 2700-0049.

Type of review: Renewal of a currently approved collection.

Affected Public: Not-for-profit institutions.

Estimated Number of Respondents: 1,172.

Estimated Time Per Response: varies.

Estimated Number of Responses Per Respondent: varies.

Number of Annual Responses: 47,710.

Estimated Total Annual Burden Hours: 291,326.

Estimated Total Annual Cost: $0.

Frequency of Report: As needed.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of information on respondents, including automated collection techniques or the use of other forms of information technology.

Patricia L. Dunnington,
Chief Information Officer.

[FR Doc. E6-424 Filed 1-13-06; 8:45 am]

BILLING CODE 7510-13-P